DEPARTMENT OF ENERGY

Federal Energy Regulatory Commission

[Docket Nos. ER04-1174-000; ER04-1174-001; ER04-1174-002; EL05-41-000]

Xcel Energy Services, Inc. and Southwest Power Pool, Inc. (Consolidated); Notice Pursuant to Section 206(B) of the Federal Power Act

May 17, 2005.

On December 17, 2004, pursuant to section 206 of the Federal Power Act (FPA),¹ the Commission instituted a proceeding in Docket No. EL05-41-000. Xcel Energy Services, Inc., 109 FERC ¶ 61,284 (2004), reh'g denied, 111 FERC ¶ 61,084 (2005). The refund effective date for the proceeding instituted in Docket No. EL05-41-000 is May 20, 2005, five months after publication of notice of the institution of the proceeding in the Federal Register.²

¹ 16 U.S.C. 824e (2000).

² 69 FR 78009 (2004).

Under section 206 of the FPA, if no final decision is rendered by the refund effective date or by the conclusion of the 180-day period commencing upon initiation of a proceeding pursuant to section 206, whichever is earlier, the Commission must state why it has failed to render a final decision. In that event the Commission must also provide its best estimate as to when it reasonably expects to make such a decision.

The Commission will be unable to render a final decision by the refund effective date because the proceeding is pending before a settlement judge.

In a May 4, 2005 report to the Commission, the settlement judge estimated that if the proceeding does not settle, a presiding judge would issue an initial decision by June 23, 2006. The Commission will require approximately four months after briefs on and opposing exceptions to an initial decision are filed to review the record, the initial decision and the briefs, and to issue an opinion. This estimate is influenced by the issues in the proceeding, as well as the complexity of the issues.

Therefore, assuming that the proceeding does not settle, the best estimate of when the Commission will reach a final decision in Docket No. EL05-41-000 is December 29, 2006.

The Secretary of the Commission issues this notice pursuant to section 375.302(w) of the Commission's rules, 18 CFR 375.302(w) (2004).

Magalie R. Salas,
Secretary.

[FR Doc. E5-2625 Filed 5-24-05; 8:45 am]

BILLING CODE 6717-01-P